DEPARTMENT OF STATE

[Public Notice 9137]

30-Day Notice of Proposed Information Collection: Affidavit of Relationship (AOR) for Minors Who Are Nationals Of El Salvador, Guatemala, and Honduras

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to June 19, 2015.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to PRM/Admissions (Sean Hantak PRM/Admissions, 2025 E Street NW, 8th Floor, Washington DC 20520), who may be reached at Fax: 202-453-9393 or at hantaksr@state.gov.

SUPPLEMENTARY INFORMATION:

• Title of Information Collection: DS-7699 Affidavit of Relationship (AOR) for Minors Who Are Nationals Of El Salvador, Guatemala, and Honduras

• OMB Control Number: 1405-0217

• Type of Request: Extension of a Currently Approved Collection

• Originating Office: PRM/A

• Form Number: DS-7699

• Respondents: Anchor parents in the U.S. with children in El Salvador, Guatemala, and Honduras.

• Estimated Number of Respondents: 2,500

• Estimated Number of Responses: 2,500

• Average Time per Response: 60 minutes per response

• Total Estimated Burden Time: 2,500 hours

• Frequency: Once per respondent

• Obligation to Respond: Required to Obtain or Retain a Benefit

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

The Department of State Bureau of Population, Refugees, and Migration (PRM) is responsible for coordinating and managing the U.S. Refugee Admissions Program (USRAP). PRM coordinates within the Department of State, as well as with the Department of Homeland Security's U.S. Citizenship and Immigration Services (DHS/USCIS), in carrying out this responsibility. A critical part of the State Department's responsibility is determining which individuals, from among millions of refugees worldwide, will have access to U.S. resettlement consideration. PRM and DHS/USCIS are now assisting with the preparation of a White House directive to initiate an in-country program to provide a means for certain persons who are lawfully present in the United States to claim a relationship with child(ren) in Honduras, El Salvador, and Guatemala and to assist the U.S. Department of State in determining whether those child(ren) are qualified to apply for access to the USRAP for family reunification purposes. This form also assists DHS/USCIS to verify parent-child relationships during refugee case adjudication. The main purpose of the DS-7699 is for the U.S. based parent to provide biographical information about his/her child(ren) in the qualifying countries who may subsequently seek access to the USRAP for verification by the U.S. government.

Methodology:

This information collection currently involves the limited use of electronic techniques. Parents (respondents) in the United States will work closely with a resettlement agency during the completion of the AOR to ensure that the information is accurate. Anchor parents may visit any resettlement agency to complete an AOR. Sometimes respondents do not have strong English-language skills and benefit from having a face-to-face meeting with resettlement agency staff. The DS-7699 form will be available electronically and responses will be completed electronically. Completed AORs will be printed out for ink signature by the respondents as well. The electronic copy will be submitted electronically to the Refugee Processing Center (RPC) for downloading into the Worldwide Refugee Admissions Processing System (WRAPS), with the signed paper copy remaining with PRM's Reception and Placement Agency partners.

Dated: May 7, 2015.
Simon Henshaw,
Principle Deputy Assistant Secterary, Bureau of Population, Refugees and Migration, Department of State.

[FR Doc. 2015-12233 Filed 5-19-15; 8:45 am]

BILLING CODE 4710-33-P